DEPARTMENT OF ENERGY

[DE-PS07-03ID14447]

Nuclear Energy Plant Optimization Program (NEPO)

AGENCY: Idaho Operations Office, Department of Energy.

ACTION: Notice of competitive financial assistance solicitation.

SUMMARY: The U.S. Department of Energy (DOE) Idaho Operations Office (ID) is seeking proposals from nuclear utility R&D organizations, nuclear reactor owner's groups, nuclear R&D organizations, reactor vendors, and other nuclear industry companies to conduct advanced research and development designed to improve the operation of present U.S. nuclear power plants. The purpose of the NEPO program is to conduct Research and Development that meets at least one of the following objectives: (1) Contributes to the increase of electrical generation capability from existing nuclear power plants; (2) contributes to continued improvement in average industry capacity factors, and (3) contributes to the development of break-through technologies in long-term operation to ensure a minimum of 60 years of operation.

DATES: Solicitation Number DE-PS07-03ID14447 was issued on February 21, 2002. The deadline for receipt of completed applications is 4 p.m. e.s.t. April 24, 2003.

ADDRESSES: The formal solicitation document was disseminated electronically through the Industry Interactive Procurement System (IIPS) located at the following URL: http://e-center.doe.gov.

FOR FURTHER INFORMATION CONTACT: Elaine Richardson, Contracting Officer, at richarem@id.doe.gov, facsimile at (208) 526-5548, or by telephone at (208) 526-2640.

SUPPLEMENTARY INFORMATION: DOE anticipates making no more than 15 cooperative agreement awards, each ranging from $250,000 to $500,000 in federal funding. The project performance period for each R&D project is anticipated to be no more than 12 to 18 months.

Fifty percent (50%) minimum industry cost share is required for all projects. The solicitation is available in its full text via the Internet at the following address: http://e-center.doe.gov. The statutory authority for this program is section 31 of the Atomic Energy Act, 42 U.S.C. 2051. The Catalog of Federal Domestic Assistance (CFDA) Number for this program is 81.121, Nuclear Energy Research, Development and Demonstration.

Issued in Idaho Falls on February 21, 2003.
Michael L. Adams,
Acting Director, Procurement Services Division.

[FR Doc. 03-4996 Filed 3-3-03; 8:45 am]

BILLING CODE 6450-01-P